DEPARTMENT OF AGRICULTURE

National Institute of Food and Agriculture

Notice of Intent To Extend and Revise a Previously Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to extend and revise a previously approved information collection, entitled Expanded Food and Nutrition Education Program (EFNEP).

DATES: Written comments on this notice must be received by February 3, 2023 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Laura Givens, 816-527-5379, Laura.Givens@usda.gov.

SUPPLEMENTARY INFORMATION:

Title of Collection: Expanded Food and Nutrition Education Program.

OMB Control Number: 0524-0044.

Expiration Date of Current Approval: 3/31/2023.

Type of Request: Notice of intent to extend and revise a previously approved information collection for three years.

Abstract: NIFA's Expanded Food and Nutrition Education Program (EFNEP) at United States Department of Agriculture (USDA) is a unique program that began in 1969 and is designed to reach limited resource audiences, especially youth and families with young children. EFNEP is authorized under section 1425 of the National Agricultural Research, Extension, and Teaching Policy Act of 1977 (7 U.S.C. 3175 and funded under section 3(d) of the Smith-Lever Act (7 U.S.C. 343(d)). Extension professionals train and supervise paraprofessionals and volunteers who teach food and nutrition information and skills to families and youth with limited financial resources. EFNEP operates through the 1862 and 1890 Land Grant Universities (LGU) in all 50 States, the District of Columbia, and in American Samoa, Guam, Micronesia, Northern Marianas, Puerto Rico, and the Virgin Islands.

The objectives of EFNEP are to assist families and youth with limited resources in acquiring the knowledge, skills, attitudes, and changed behaviors necessary for nutritionally sound diets, and to contribute to their personal development and the improvement of the total family diet and nutritional well-being.

NIFA sponsors an integrated data collection process that is used at the county, State, and Federal level. The current data collection system, the Web-based Nutrition Education Evaluation and Reporting System (WebNEERS), captures EFNEP impacts. Its purpose is to gauge if the Federal assistance provided has had an impact on the target audience. It also enables EFNEP staff to make programmatic improvements in delivering nutrition education. Further, the data collected provide information for program management decisions and diagnostic assessments of participants' needs and program fidelity. In order to capture all of EFNEP's reporting requirements in one place, EFNEP program plans and budgetary data are now submitted, reviewed, and approved through WebNEERS. These specific reporting requirements are tied to release of Federal EFNEP funds.

WebNEERS grew out of EFNEP's long-standing commitment to program evaluation. Since EFNEP's inception in 1969, states have annually reported demographic and dietary behavior change of their EFNEP audience to the federal National Program Leader at NIFA, and its preceding agencies within USDA. Increased rigor and attention to data collection began in 1990 in response to communications with staff from the House Committee on Agriculture, who expressed a need for greater accountability and the ability to show the degree to which EFNEP was meeting its objectives. Representatives from the Economic Research Service, Food and Nutrition Service, USDA Office of Budget and Program Analysis, as well as evaluation specialists from the Federal Extension Service and its university partners, identified the most valuable behaviors to measure, which then became the core components of the system. Concurrence was received from staff for the House Committee on Agriculture. Over the years, the system has been upgraded to align with technological advancements, incorporate relevant evidence-based practices and practice-based evidence, and address changes in data collection standards and requirements (e.g., data collection on race/ethnicity, updates to the U.S. dietary guidelines, etc.). Data submission has evolved from paper forms, to discs, to the current web-based system. With each of these evolutionary changes, the data collection system was also reviewed for appropriateness and need for changes to collected content. Development of WebNEERS began in FY 2011; national implementation of this web-based platform began in FY 2013. WebNEERS and its predecessor collection systems have been approved by OMB.

Specifications for WebNEERS were developed by a committee of representatives from the EFNEP and Extension community and others with content and audience expertise from across the United States. These specifications are in compliance with Federal Equal Employment Opportunity standards for maintaining, collecting, and presenting data on race and ethnicity, and protecting personally identifiable information.

WebNEERS stores information on:

(1) Adult program participants, their family structure, and dietary practices;

(2) Youth group participants;

(3) Staff;

(4) Annual budgets; and

(5) Annual program plans.

WebNEERS is a secure online system designed, hosted, and maintained by Clemson University. WebNEERS is accessed through the internet via internet Explorer, Firefox, Google Chrome, and Safari web browsers. It can also be accessed through mobile devices and tablets. The existing system incorporates local, university, and Federal components, the EFNEP 5-Year Plan/Annual Update (program plan), the EFNEP budget and budget justification, and the social ecological framework of the Community Nutrition Education (CNE) logic model. Only approved users can access WebNEERS and each user can only access data based on their defined permissions. The system also has the capability to export raw data for external analysis. Data exported from WebNEERS does not include personally identifiable information (PII). Several stakeholder groups provide ongoing input on the system to: (1) Ensure that EFNEP only collects data NIFA needs for evaluation and reporting purposes, and (2) Resolve bugs or other concerns experienced by users. These stakeholder groups also give feedback to improve user interfaces and to improve functionality and capabilities of the system.

The evaluation processes of EFNEP remain consistent with the requirements of Congressional legislation and OMB, including the Government Performance and Results Act (GPRA) of 1993 (Pub. L. 103-62).

WebNEERS is a single web-based system that operates at three levels: Region (County); Institution (university), and Federal. Data is entered at the regional level and is available in aggregated form at the Institution level in real time. University staff are able to generate institutional-level reports to guide program management decisions and to inform State-level stakeholders. In States that have both 1862 and 1890 LGUs, separate reports are generated by each type of institution on the respective audiences served. A permissions process is used to allow data to flow from the Region to the Institution to the Federal level. Data is not available at the Federal level until the university staff submits it. This process allows for State and National assessments of the program's impact. National data is used to create National reports, which are made available to the public.

There are revisions to the currently approved collection. WebNEERS uses an agile development process, which allows software developers to work closely with users to operate smoothly, maintain securities, improve efficiencies, and function effectively in the ever-changing environment in which EFNEP is administered. It also supports an accelerated incorporation of research-based indicators to appropriately identify behavioral change.

NIFA is proposing a number of revisions to the previously approved collection. The revised form will include ten additional questions on the Adult Food and Physical Activity Questionnaire. The additional questions were recommended by a multistate research group with programmatic expertise and experience and will allow for greater accuracy in reporting program impacts. NIFA also proposes to utilize a direct data app that will allow participants to enter their own data. This will improve data quality and reduce the amount of time required to complete the collection. Additionally, NIFA is proposing changes designed to improve accessibility. Finally, NIFA will include technology indicators that better reflect the technology approaches that have been incorporated into EFNEP program delivery.

Estimate of Burden: The total annual estimated burden for this information collection is 14,744 hours. This includes the time needed for participant education and data entry, aggregation, and reporting; and for preparation, review, and submission of EFNEP program plans and budgetary information.

Estimated Number of Respondents: 76.

Annual Responses: 76.

Average Time to Complete Each Response: 194 hours.

Burden Hours: 14,744.

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Laura Givens as directed above.

Done at Washington, DC, this day of November 17, 2022.
Dionne Toombs,
Acting Director, National Institute of Food and Agriculture, U.S. Department of Agriculture.

[FR Doc. 2022-26399 Filed 12-2-22; 8:45 am]

BILLING CODE 3410-22-P